ENVIRONMENTAL PROTECTION AGENCY

[TRL-6865-4]

Request for Statement of Qualifications (RFQ) for Administrative, Technical and Scientific Support to the Chesapeake Bay Program

The U.S. Environmental Protection Agency (EPA) is issuing a request for statement of qualifications for organizations interested in assisting the Chesapeake Bay Program in its effort to provide the administrative, technical and scientific support for the Bay Program partnership. Applicants must be a local, state, interstate agencies, academic institution, or other nonprofit organizations. Note, this is a request for qualifications for the benefit of the Chesapeake Bay Program partnership and not for direct benefit to EPA. funding will be provided to an organization under the authority of the Clean Water Act, section 117.

The RFQ is available at the following web-site: http//www.epa.gov/r3chespk/. You may also request a copy by calling Robert Shewack at 410-267-9856 or by E-mail at: shewack.robert@epa.gov. Statement of qualifications (an original and five (5) copies) must be postmarked no later than October 6, 2000. Any late, incomplete or fax proposals will not be considered.

William Matuszeski,
Director, Chesapeake Bay Program.

[FR Doc. 00-22967 Filed 9-6-00; 8:45 am]

BILLING CODE 6560-50-M